DEPARTMENT OF COMMERCE

National Oceanic and Atmospheric Administration

50 CFR Part 300

[Docket No. 130722646-4081-01]

RIN 0648-BD54

International Fisheries; Pacific Tuna Fisheries; Establishment of Tuna Vessel Monitoring System in the Eastern Pacific Ocean; Correction

AGENCY: National Marine Fisheries Service (NMFS), National Oceanic and Atmospheric Administration (NOAA), Commerce.

ACTION: Proposed rule; request for comments; correction.

SUMMARY: This action corrects a web address provided for the submission of electronic public comments in a notice that published on February 6, 2014.

DATES: Comments on the proposed rule and the initial regulatory flexibility analysis (IRFA) must be submitted on or before March 10, 2014. A public hearing will be held from 1 p.m. to 4 p.m. PST, February 28, 2014, in Long Beach, CA.

FOR FURTHER INFORMATION CONTACT: Heidi Taylor, NMFS West Coast Region, 562-980-4039, or Rachael Wadsworth, NMFS West Coast Region, 562-980-4036.

SUPPLEMENTARY INFORMATION: NMFS proposed regulations that would establish requirements for a satellite-based vessel monitoring system (VMS) for U.S. commercial fishing vessels, 24 meters or more in overall length, used to target any fish of the genus Thunnus or of the species Euthynnus (Katsuwonus) pelamis (skipjack tuna) in the area bounded by the west coast of the Americas and on the north, south and west respectively, by the 50° N. and 50° S. parallels, and the 150° W. meridian.

Need for Correction

NMFS provided methods to submit public comments that include electronic, mail and a public hearing. However, the web address provided for the submission of electronic public comments is incorrect.

Correction

Accordingly, in the notice published on February 6, 2014 (79 FR 7152), on page 7152, third column, in the first bullet point of the ADDRESSES section, the web address provided for the submission of electronic public comments is corrected to read as follows: www.regulations.gov/#!docketDetail;D=NOAA-NMFS-2013-0117

Dated: February 18, 2014.
Samuel D. Rauch III,
Deputy Assistant Administrator for Regulatory Programs, National Marine Fisheries Service.

[FR Doc. 2014-03911 Filed 2-24-14; 8:45 am]

BILLING CODE 3510-22-P